DEPARTMENT OF TRANSPORTATION

National Highway Traffic Safety Administration

[U.S. DOT Docket Number NHTSA-2001-8618]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before March 19, 2001.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Mr. Ed Kosek, NHTSA 400 Seventh Street, SW, Room 6123,Washington, DC 20590. Mr. Kosek's telephone number is (202) 366-2589. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Labeling of Retroreflective Materials for Heavy Trailer Conspicuity

Type of Request: Reinstatement of Clearance.

OMB Clearance Number: 2127-0569.

Form Number: This collection of information uses no standard forms.

Requested Expiration Date of Approval: Three years from date of approval.

Summary of the Collection of Information: The permanent marking of the letters “DOT-C2”, “DOT-C3” or “DOT-C4” at least 3mm high at regular intervals on retroreflective sheeting material is the information collection.

Description of the need for the information and proposed use of the information: Federal Motor Vehicle Safety Standard No. 108, “Lamps, Reflective Devices, and Associated Equipment,” specifies requirements for vehicle lighting for the purposes of reducing traffic accidents and their tragic results by providing adequate roadway illumination, improved vehicle conspicuity, appropriate information transmission through signal lamps, in both day, night, and other conditions of reduced visibility. For certification and identification purposes, the Standard requires the permanent marking of the letters “DOT-C2,” “DOT-C3,” or “DOT-C4” at least 3mm high at regular intervals on retroreflective sheeting material having adequate performance to provide effective trailer conspicuity.

The manufacturers of new tractors and trailers are required to certify that their products are equipped with retroreflective material complying with the requirements of the standard. The Federal Highway Administration Office of Motor Carrier Safety enforces this and other standards through roadside inspections of trucks. There is no practical field test for the performance requirements, and labeling is the only objective way of distinguishing trailer conspicuity grade material from lower performance material. Without labeling, FHWA will not be able to enforce the performance requirements of the standard, and the compliance testing of new tractors and trailers will be complicated. Labeling is also important to small trailer manufacturers because it may help them to certify compliance. Because wider stripes of material of lower brightness also can provide the minimum safety performance, the marking system serves the additional role of identifying the minimum stripe width required for the retroreflective brightness of the particular material. Since the differences between the brightness grades of suitable retroreflective conspicuity material is not obvious from inspection, the marking system is necessary for tractor and trailer manufacturers and repair shops to assure compliance and for FHWA to inspect tractors and trailers in use.

Permanent labeling is used to identify retroreflective material having the minimum properties required for effective conspicuity of trailers at night. The information enables the FHWA to make compliance inspections, and it aids tractor and trailer owners and repair shops in choosing the correct repair materials for damaged tractors and trailers. It also aids small trailer manufacturers in certifying compliance of their products.

The FHWA will not be able to determine whether trailers are properly equipped during roadside inspections without labeling. The use of cheaper and more common reflective materials, which are ineffective for the application, would be expected in repairs without the labeling requirement.

Description of the Likely Respondents (Including Estimated Number, and Proposed Frequency of Response to the Collection of Information): The respondents are likely to be manufacturers of the conspicuity material. The agency is aware of at least three. Based on the estimated number of feet of conspicuity material for a year's installation on new tractors and trailers, the number of imprints of the information is estimated to be 10 million.

Estimate of the Total Annual Reporting and Recordkeeping Burden Resulting from the Collection of Information: The cost to manufacturers of extending the label requirement is the maintenance and amortization of printing rollers and the additional dye or ink consumed. The labels are to be placed at intervals of about 18 inches on rolls of retroreflective conspicuity tape. The labels are printed during the normal course of steady flow manufacturing operations without a direct time penalty.

Two methods of printing the label are in use. One method uses the same roller that applies the dye to the red segments of the material pattern. The roller is resurfaced annually using a computerized etching technique. The “DOT-C2” label was incorporated in the software to drive the roller resurfacing in 1993, and there is no additional cost to continue the printing of the label. In fact, costs would be incurred to discontinue the label.

The second method uses a separate roller to apply the label. The manufacturer using this technique reports that these rollers have been in service for 5 years without detectable wear and predicts a service life of at least fifteen years. Four rollers costing about $2,500 each are used. A straight line depreciation of the rollers over 15 years equals $667 per year. With an annual allowance for $333 for additional dye, the annual total industry cost of maintaining the “DOT-C2” label is about $1,000.

Authority: 440 U.S.C. 3506(c); delegation of authority at 49 CFR 1.50.

Issued on: January 9, 2001.
Stephen R. Kratzke,
Associate Administrator for Safety Performance Standards

[FR Doc. 01-1217 Filed 1-12-01; 8:45 am]

BILLING CODE 4910-59-P